DEPARTMENT OF TRANSPORTATION

Federal Highway Administration

[Docket No. FHWA-2008-0137]

Agency Information Collection Activities; Request for Comments; Clearance of a Renewal Information Collection; Highways for LIFE Pilot Program

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by November 28, 2008.

ADDRESSES: You may submit comments identified by Docket ID Number FHWA-2008-0137 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Mary Huie, 202-366-3039, Department of Transportation, Federal Highway Administration, Office of Infrastructure, 1200 New Jersey Ave., SE., E76-106, Washington, DC 20590. Office hours are from 8 a.m. to 4:30 p.m., Monday through Friday, except Federal holidays.

SUPPLEMENTARY INFORMATION: Title: Highways for LIFE Pilot Program. OMB #2125-0607.

Background: Section 1502 of SAFETEA-LU establishes the “Highways for LIFE” Pilot Program. The purpose of the Highways for LIFE pilot program is to advance longer-lasting highways using innovative technologies and practices to accomplish the fast construction of efficient and safe highways and bridges. “Highways for LIFE” is focused on accelerating the rate of adoption of proven technologies. The program will provide funding to States to accelerate technology adoption to construct, reconstruct, or rehabilitate Federal-aid highway projects that incorporate innovative technologies that will improve safety, reduce congestion due to construction, and improve quality. Those States interested in participating in the “Highways for LIFE” program will submit an application for project funding. The information to be provided on the application includes a description of the project, the innovative technologies to be used and a description of how these technologies will improve safety, reduce construction congestion, and improve quality. The collected information will be used by FHWA to evaluate and select projects for “Highways for LIFE” funding.

Respondents: The fifty State Departments of Transportation, the District of Columbia, and Puerto Rico.

Frequency: The information will be collected annually beginning in fiscal year 2009 and ending in fiscal year 2015.

Estimated Average Burden per Response: 8 hours per respondent per application.

Estimated Total Annual Burden Hours: It is expected that the respondents will complete approximately 30 applications for an estimated 240 total annual burden hours.

Public Comments Invited: You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: September 23, 2008.
James R. Kabel,
Chief, Management Programs and Analysis.

[FR Doc. E8-22727 Filed 9-26-08; 8:45 am]

BILLING CODE 4910-22-P